SMALL BUSINESS ADMINISTRATION

[Disaster Declaration #10222 and #10223]

Florida Disaster Number FL-00011

AGENCY: Small Business Administration

ACTION: Amendment 2.

SUMMARY: This is an amendment of the Presidential declaration of a major disaster for the State of Florida (FEMA-1609-DR), dated 10/24/2005.

Incident: Hurricane Wilma.

Incident Period: 10/23/2005 and continuing.

Effective Date: 10/30/2005.

Physical Loan Application Deadline Date: 12/23/2005.

EIDL Loan Application Deadline Date: 07/24/2006.

ADDRESSES: Submit completed loan applications to: Small Business Administration, National Processing and Disbursement Center, 14925 Kingsport Road, Fort Worth, TX 76155.

FOR FURTHER INFORMATION CONTACT: A. Escobar, Office of Disaster Assistance, Small Business Administration, 409 3rd Street, Suite 6050, Washington, DC 20416.

SUPPLEMENTARY INFORMATION: The notice of the Presidential disaster declaration for the State of Florida, dated 10/24/2005 is hereby amended to include the following areas as adversely affected by the disaster:

Primary Counties:

Brevard, Indian River, and Okeechobee.

Contiguous Counties:

Florida: Orange, Osceola, Polk, Seminole, and Volusia.

All other information in the original declaration remains unchanged.

(Catalog of Federal Domestic Assistance Numbers 59002 and 59008.)
Herbert L. Mitchell,
Associate Administrator for Disaster Assistance.

[FR Doc. 05-22169 Filed 11-7-05; 8:45 am]

BILLING CODE 8025-01-P